ENVIRONMENTAL PROTECTION AGENCY

[FRL-6982-8]

Massachusetts Marine Sanitation Device Standard; Receipt of Petition

Notice is hereby given that a petition has been received from the State of Massachusetts requesting a determination of the Regional Administrator, U.S. Environmental Protection Agency, pursuant to section 312(f)(3) of Public Law 92-500 as amended by Public Law 95-217 and Public Law 100-4, that adequate facilities for the safe and sanitary removal and treatment of sewage from all vessels are reasonably available for the Three Bay/Centerville Harbor Area in the Town of Barnstable, County of Barnstable, State of Massachusetts, to qualify as a “No Discharge Area” (NDA). The areas covered under this petition include Cotuit Bay, West Bay, East Bay, and Squaw Island Marsh, north of a line drawn 500 feet south of their mouths at Nantucket Sound. The area also includes the following sub-embayments: North Bay, Prince Cove, Marstons Mills River South of Route 28, Scudder Bay South of Bumps River Road, Bumps River East of Bumps River Road, Centerville River West of Craigville Beach Road, and Halls Creek South of Craigville Beach Road. The proposed NDA encompasses approximately 2,150 surface acres in the Southwest corner in the Town of Barnstable. The area is roughly bounded by: 41°36′40.0″ N by 70°26′41.1″ W, 41°37′26.9″ N by 70°19′05.4″ W, 41°38′19.8″ N by 70°19′21.9″ W, and 41° 39′03.2″ N—70°24′53.8″ W.

The State of Massachusetts has certified that there will be two pump-out facilities located within the proposed area to service vessels in the Three Bay/Centerville Harbor Area. The first, is a pump-out boat operated by the Harbormasters Office, and docked at the Oyster Harbor Marine when not in use. The boat has a holding capacity of 300 gallons. The pump-out boat is available Wednesday through Sunday from 0930 to 1630 (9:30 a.m.-4:30 p.m.) from Memorial Day to Thanksgiving. The pump-out boat is accessible by VHF marine radio via Channel 9 and by calling the Marine and Environmental Affairs Division (MEAD) in Barnstable at (508) 790-6273. The second pump-out facility is a self service trailer unit and located at the Oyster Harbor Marine, with a holding capacity of 250 gallons, and provides access for vessels up to 50 feet in length and a draft of 4 feet at mean low water. This facility is available daily from June 15 through September 15 from approximately 0800 to 1700 (8 a.m. to 5 p.m.). During the early spring and late fall this facility is available by contacting the Harbormaster Office by phone at (508) 790-6273.

The town of Barnstable maintains public facilities at four locations, Loops Beach, Craigville Beach, Covells Beach and Dowse's Beach, and are seasonal. In addition the three marinas located within the proposed NDA provide on-shore toilet facilities for marina patrons and their guests.

The waste from the pump-out boat is off loaded to the trailer unit and then transported to the Barnstable Water Pollution Control Facility. The Barnstable Board of Health issues a waste permit for this disposal.

The number of mooring permits indicate that 1,667 vessels reside within the Three Bay/Centerville Harbor Area and 1584 are identified as recreational and 83 are commercial vessels. The Three Bay/Centerville Harbor Area is primarily a “parking lot” harbor and 70% of the vessel population is under 25 feet in length, and therefore do not have any type of Marine Sanitation Device (MSD). There are a number of locations in the Three Bay/Centerville Harbor Area with public launching ramps, however, the size and condition of the ramps and the depth of the water generally limit use to vessels 25 feet and under. In addition to the vessels that reside in the Three Bay/Centerville Harbor Area, there is a transient population estimated at 110 vessels which have MSDs.

The resources of the Three Bay/Centerville Harbor Area are recreational and commercial. There are four public beaches, the Dead Neck Audubon Bird/Wildlife Refuge, and town conservation lands located within the proposed No Discharge Area. The area is also used by both recreational and commercial shell fishermen for the harvest of quahogs, and soft-shell clams.

Comments and reviews regarding this request for action may be filed on or before June 22, 2001. Such communications, or requests for information or a copy of the applicant's petition, should be addressed to Ann Rodney, U.S. Environmental Protection Agency—New England Region, 1 Congress Street, Suite 1100, CWQ, Boston, MA 02114-2023. Telephone: (617) 918-1538.

Ira Leighton,
Acting Regional Administrator, Region 1.

[FR Doc. 01-12890 Filed 5-22-01; 8:45 am]

BILLING CODE 6560-50-P